DEPARTMENT OF AGRICULTURE

Submission for OMB Review; Comment Request

November 20, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques and other forms of information technology.

Comments regarding this information collection received by December 26, 2018 will be considered. Written comments should be addressed to: Desk Officer for Agriculture, Office of Information and Regulatory Affairs, Office of Management and Budget (OMB), New Executive Office Building, 725—17th Street NW, Washington, DC, 20503. Commentors are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Public Lands Corps Participant Tracking Sheet.

OMB Control Number: 0596-NEW.

Summary of Collection: The Public Lands Corps (PLC) is a work and education program involving the nation's land management agencies, conservation and service corps, and environmental organizations that contribute to the rehabilitation, restoration, and repair of public lands resources and infrastructure. PLC provides opportunities for community and national service, work experience, and training to young people who are unemployed or underemployed. The law authorizing this program is 16 U.S.C. 1721-1726, Chapter 37—Public Lands Corps and Resources Assistants Program (Public Lands Corps Healthy Forest Restoration Act of 2005 [Pub. L. 109-154]) as amended in 1993, hereafter referred to as “the Act.”

Need and use of the Information: This information collection request establishes policies and procedures for the implementation of the Public Lands Corps Participant Tracking Sheet to ensure uniform collection of information regarding tracking and monitoring participant engagement to determine the completion of requirements for non-competitive hiring eligibility as defined in the Act. Data collected through the Public Lands Corps Participant Tracking Sheet will allow the Forest Service (FS) and other Federal Land Management Agencies who sponsor PLC programs to support collaborating partners who manage eligible participants and their participation in PLC projects. If the FS is unable to collect data regarding PLC participants, it and other Federal Land Management Agencies would be unable to participate in a legally mandated program as outlined in the Act.

Description of Respondents: Non-profit Organizations and Non-Federal Government entities.

Number of Respondents: 350.

Frequency of Responses: Reporting; Quarterly.

Total Burden Hours: 8,400.

Kimble Brown,
Departmental Information Collection Clearance Officer.

[FR Doc. 2018-25623 Filed 11-23-18; 8:45 am]

BILLING CODE 3411-15-P